DEPARTMENT OF DEFENSE

Department of the Army

[Docket ID: USA-2019-HQ-0028]

Submission for OMB Review; Comment Request

AGENCY: U.S. Army Corps of Engineers, DoD.

ACTION: 30-Day information collection notice.

SUMMARY: The Department of Defense has submitted to OMB for clearance the following proposal for collection of information under the provisions of the Paperwork Reduction Act.

DATES: Consideration will be given to all comments received by January 21, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: U.S. Army Corps of Engineers, Instrument for Hurricane Evacuation Behavioral Survey; Generic Collection for OMB Control Number 0710-0019.

Type of Request: Extension.

Number of Respondents: 6,000.

Responses per Respondent: 1.

Annual Responses: 6,000.

Average Burden per Response: 15 minutes.

Annual Burden Hours: 1,500.

Needs and Uses: The primary purpose of collections to be conducted under this clearance is to provide data which will be used in conjunction with other information to derive numerical values of certain evacuation behaviors which in turn will be used in transportation modeling of evacuation clearance times, along with shelter planning and public outreach. In general all collections under this clearance will be designed based upon accepted statistical practices and sampling methodologies, will gather consistent and valid data that are representative of the target population, address non-response bias issues, and achieve response rates needed to obtain statistically useful results.

Affected Public: Business or other for-profit; individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: December 13, 2019.
Morgan E. Park,
Alternate OSD Federal Register Liaison Officer, Department of Defense.

[FR Doc. 2019-27367 Filed 12-18-19; 8:45 am]

BILLING CODE 3710-08-P